DEPARTMENT OF COMMERCE

National Oceanic and Atmospheric Administration

Proposed Information Collection; Comment Request; NMFS Alaska Region American Fisheries Act Reports

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 18, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Patsy A. Bearden, (907) 586-7008 or Patsy.Bearden@noaa.gov.

SUPPLEMENTARY INFORMATION:

I. Abstract

This request is for extension of a currently approved information collection.

On October 21, 1998, the President signed into law The American Fisheries Act, 16 U.S.C. 1851 (AFA). The AFA established a limited access program for the inshore sector of the Bering Sea and Aleutian Islands (BSAI) pollock fishery that is based on the formation of fishery cooperatives around each inshore pollock processor. The National Marine Fisheries Service (NMFS) issues a single pollock allocation to each cooperative and the cooperative may make sub-allocations of pollock to each individual vessel owner in the cooperative.

• With respect to the fisheries off Alaska, the AFA Program is a suite of management measures that fall into four general regulatory categories:

• Limit access into the fishing and processing sectors of the BSAI pollock fishery and that allocate pollock to such sectors (50 CFR 679.64).

• Govern the formation and operation of fishery cooperatives in the BSAI pollock fishery, including filing of cooperative contracts (50 CFR 679.61 and 679.62).

• Protection of other fisheries from spillover effects from the AFA (50 CFR 679.64).

• Govern catch measurement and monitoring in the BSAI pollock fishery, including filing of annual reports and completing and submitting inshore catcher vessel pollock cooperative catch reports (50 CFR 679.63).

II. Method of Collection

Respondents have a choice of either electronic or paper forms. Methods of submittal include email of electronic forms, and mail and facsimile transmission of paper forms.

III. Data

OMB Control Number: 0648-0401.

Form Number: None.

Type of Review: Regular submission (extension of a currently approved collection).

Affected Public: Business or other profit organizations; individuals or households.

Estimated Number of Respondents: 11.

Estimated Time per Response: AFA Cooperative Annual Report, 8 hours; AFA Cooperative Catch Report, 5 minutes; Agent for Service of Process, 5 minutes; Salmon Bycatch Reduction Inter-cooperative Agreement (ICA) or Renewal Letter, 1 hour; Application for a Proposed Incentive Plan Agreement (IPA) and List of Participants, 40 hours; and Chinook Salmon IPA Annual Report, 40 hours.

Estimated Total Annual Burden Hours: 425.

Estimated Total Annual Cost to Public: $56 in recordkeeping/reporting costs.

IV. Request for Comments

Comments are invited on: (a) W(hether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 13, 2014.
Gwellnar Banks,
Management Analyst, Office of the Chief Information Officer.

[FR Doc. 2014-14320 Filed 6-18-14; 8:45 am]

BILLING CODE 3510-22-P